Title 3—

The President

Proclamation 8740 of October 24, 2011

United Nations Day, 2011

By the President of the United States of America

A Proclamation

In 1945, 51 nations in a world shaken by war signed the Charter of the United Nations. Determined to move beyond an era of violence and uncertainty, these pioneers aimed to prevent conflict by addressing its causes. Today, the United Nations provides a forum to seek lasting peace by mediating international disputes, advancing human rights, and fostering global cooperation. On United Nations Day, we join our 192 fellow member states in celebrating the founding ideals of the Charter, and we recommit to the global pursuit of peace, justice, and human dignity.

Built out of the ashes of war and genocide, the United Nations emerged as a vehicle for human progress. Recognizing the power and virtue of working in concert, the founders of this institution set out to mend the wounds caused by World War II, embrace peace over chaos, and lay the foundation for global cooperation on shared goals. Now, as the fates of nations become ever more intertwined, the leadership, staff, and member states of the United Nations continue to play an essential role in addressing global issues—from public health and economic development to climate change, transnational terrorism, and nuclear proliferation.

Extraordinary events have reminded the world that the collective action of ordinary citizens can lead the march toward liberty and justice. At a time of dramatic political transformation, the United Nations can embrace democratic movements and stand beside those who reject tyranny and oppression and look to the promise of freedom and prosperity. Together, we will help realize the aspirations of peoples long denied the opportunity to achieve their dreams.

The men and women who created the United Nations understood that peace is not simply the absence of war. The global community must continue not only to promote stability, but also defend the right of all peoples to live free and the right of all nations to chart their own course. The United States, working in and with the United Nations, will never accept a flawed status quo, but will pursue with vigor the world as we know it can be.

NOW, THEREFORE, I, BARACK OBAMA, President of the United States of America, by virtue of the authority vested in me by the Constitution and the laws of the United States, do hereby proclaim October 24, 2011, as United Nations Day. I urge the Governors of the 50 States, and the officials of all other areas under the flag of the United States, to observe United Nations Day with appropriate ceremonies and activities.

IN WITNESS WHEREOF, I have hereunto set my hand this twenty-fourth day of October, in the year of our Lord two thousand eleven, and of the Independence of the United States of America the two hundred and thirty-sixth.

[FR Doc. 2011-28050

Filed 10-26-11; 11:15 am]

Billing code 3295-F2-P